DEPARTMENT OF THE INTERIOR

Fish and Wildlife Service

Information Collection Being Submitted to the Office of Management and Budget (OMB) for Approval Under the Paperwork Reduction Act of 1995 (PRA)

AGENCY: Fish and Wildlife Service, Interior.

ACTION: New Information Collection—State Certification of Expenditures.

SUMMARY: The U.S. Fish and Wildlife Service (Service) has submitted the information collection requirement described below to the Office of Management and Budget (OMB) for approval under the provisions of the Paperwork Reduction Act of 1995 (PRA). The Service is soliciting comment and suggestions on the requirement as described below.

DATES: Interested parties must submit comments on or before January 30, 2002. OMB has 60 days to approve or disapprove an information collection, but may respond after 30 days. Therefore to ensure maximum consideration, OMB should receive public comments by the above date.

ADDRESSES: Interested parties should send comments and suggestions on the requirement to: Office of Information and Regulatory Affairs, Office of Management and Budget, Attn: Interior Desk Officer, New Executive Office Building, 725 17th Street, Washington, DC 20503, and they should send a copy of the comment to: Rebecca A. Mullin, Information Collection Clearance Officer, U.S. Fish and Wildlife Service, 4401 North Fairfax Drive, Suite 222, Arlington, VA 22203 or Rebecca Mullin@fws.gov e-mail.

FOR FURTHER INFORMATION CONTACT: Tim Hess, (703) 358-1849, fax (703) 358-1837, or Tim_Hess@fws.gov e-mail.

SUPPLEMENTARY INFORMATION: Title of Forms: Certification of Spending.

Service Form Number: 3-2197a.

This form currently has no OMB Control Number. The Service may not conduct or sponsor, and a person is not required to respond to a collection of information unless it displays a currently valid OMB Control Number.

Description and Use: The Service administers grant programs authorized by the Federal Aid in Wildlife and Sport Fish Restoration Acts. The Wildlife and Sport Fish Restoration Programs Improvement Act of 2000 requires that States certify annually in writing that their expenditure of these Federal grant funds was in accordance with the appropriate Act. The Service must forward these certifications to Congress annually by December 31st each year.

The Service invited comments over a 60 day period in the Federal Register (Volume 66, Number 184, Page 48700-48703) starting September 21, 2001. No comments were received.

The Service submitted the following information collection requirements to OMB for review and approval under the Paperwork Reduction Act of 1995, Public Law 104-13. Comments are again invited on (1) whether the collection of information is necessary for the proper performance of the functions of the agency, including whether the information will have practical utility; (2) the accuracy of the agency's estimates of burden of the collection of information; (3) ways to enhance the quality, utility, and clarity of the information to be collected; and (4) ways to minimize the burden of collection of information on respondents, including through the use of appropriate automated, electronic, mechanical, or other technological collection techniques or other forms of information technology.

Frequency: Annually.

Description of Respondents: States, the Commonwealth of Puerto Rico, the District of Columbia, the Commonwealth of the Northern Mariana Islands, Guam, the U.S. Virgin Islands, and American Samoa.

BILLING CODE 4310-55-M

Completion Time and Annual Response Estimate:

Form name | Completion time per form | Annual response | Annual burden (In hours)
State Certification of Expenditures | ½ Hour | 60 Forms | 30

Dated: December 11, 2001.
Rebecca Mullin,
Fish and Wildlife Service, Information Collection Clearance Officer.

[FR Doc. 01-32092 Filed 12-28-01; 8:45 am]

BILLING CODE 4310-55-C